DEPARTMENT OF EDUCATION

Applications for New Awards; Fulbright-Hays Group Projects Abroad Program

AGENCY: Office of Postsecondary Education, Department of Education.

ACTION: Notice; corrections.

SUMMARY: On November 12, 2021, the Department of Education (Department) published in the Federal Register a notice inviting applications (NIA) for new awards for fiscal year (FY) 2021 for the Fulbright-Hays Group Projects Abroad (GPA) Grant Program, Assistance Listing Numbers 84.021A and 84.021B. We are amending the NIA to extend the deadline for transmittal of applications until January 26, 2022.

DATES: Deadline for Transmittal of Applications: January 26, 2022.

FOR FURTHER INFORMATION CONTACT: Cory Neal, U.S. Department of Education, 400 Maryland Avenue SW, Washington, DC 20202-4260. Telephone: (202) 453-6137. Email: GPA@ed.gov.

If you use a telecommunications device for the deaf (TDD) or a text telephone (TTY), call the Federal Relay Service (FRS), toll free, at 1-800-877-8339.

SUPPLEMENTARY INFORMATION: On November 12, 2021, we published in the Federal Register the NIA for the FY 2021 GPA Grant Program (86 FR 62796). The application deadline in the NIA was January 11, 2022. We are amending the NIA to extend the deadline for transmittal of applications until January 26, 2022. All other requirements and conditions stated in the NIA remain the same.

Amendments

In FR Document 2021-24645 appearing on page 62796 of the Federal Register of November 12, 2021, we make the following amendments:

On page 62796, in the second column, under the Dates caption and following the heading “Deadline for Transmittal of Applications”, remove “January 11, 2022” and add in its place “January 26, 2022”.

Accessible Format: On request to the contact person listed under FOR FURTHER INFORMATION CONTACT, individuals with disabilities can obtain this document, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michele Asha Cooper,
Deputy Assistant Secretary for Higher Education Programs Delegated the Authority to Perform the Functions and Duties of the Assistant Secretary, Office of Postsecondary Education.

[FR Doc. 2021-26229 Filed 12-1-21; 8:45 am]

BILLING CODE 4000-01-P